DEPARTMENT OF DEFENSE

Department of the Army

Programmatic Environmental Assessment for Armored Multi-Purpose Vehicle Fielding

AGENCY: Department of the Army, DoD.

ACTION: Notice of availability.

SUMMARY: The Department of the Army (Army) has completed a Programmatic Environmental Assessment (PEA) analyzing the impacts of fielding the Armored Multi-Purpose Vehicle (AMPV) at various Army installations in accordance with Department of Defense (DoD) and Army guidance. The Army is making the PEA and a draft Finding of No Significant Impact (FONSI) available for public comment. The PEA identifies no significant environmental impacts from implementing the proposed action. The draft FONSI concludes that preparing an environmental impact statement is not required and, therefore, one will not be prepared.

DATES: Comments must be received by April 3, 2023 to be considered in the preparation of the PEA.

ADDRESSES: Written comments should be sent by mail to U.S. Army Environmental Command, ATTN: AMPV Public Comments, 2455 Reynolds Rd., Mail Stop 112, JBSA-Fort Sam Houston, TX 78234-7588. Comments can also be sent via email to: usarmy.jbsa.imcom-aec.mbx.nepa@army.mil with AMPV Public Comments as the subject.

FOR FURTHER INFORMATION CONTACT: Ms. Cathy Kropp with the U.S. Army Environmental Command Public Affairs Office at (210) 466-1590 or at (210) 466-1655 or send email to: usarmy.jbsa.imcom-aec.mbx.public-mailbox@army.mil for assistance.

SUPPLEMENTARY INFORMATION: The Army has prepared this PEA in accordance with the National Environmental Policy Act of 1969 (NEPA) (Title 42 of the United States Code Section 4321); Council on Environmental Quality (CEQ) NEPA regulations (Title 40 of the Code of Federal Regulations CFR parts 1500-1508); and the Army's NEPA implementing regulation, Environmental Analysis of Army Actions (32 CFR part 651).

The proposed action is to field the AMPV to replace five mission roles currently provided by M113s, to include associated operations, soldier-training, and maintenance activities. The purpose of the proposed action is to establish fielding locations for the AMPV, in order to train the Army's Active Component and Reserve Component, including the Army National Guard, Armored Brigade Combat Teams (ABCTs), and other units at Army installations in the United States, consistent with the Army Modernization Strategy. The AMPV is the replacement for the M113 armored personnel carrier, which dates back to the 1960s. It is a major effort of the Army's Next Generation Combat Vehicle Cross Functional Team. The proposed action is needed to improve the safety and survivability of soldiers and provide for improved integrated network capability and interoperability across the spectrum of combat vehicle mission roles.

The PEA includes some installation-specific analysis in addition to general analyses that would be applicable to most locations. This PEA serves as an overview of the AMPV system and may or may not require additional NEPA analysis at individual installations. The programmatic approach avoids unnecessary duplicate NEPA analyses, better informs decision makers, and encourages active public involvement.

The installations considered for fielding of the AMPV in the PEA and draft FONSI are: Fort Benning, GA; Fort Bliss, TX; Fort Bragg, NC; Fort Campbell, KY; Fort Carson, CO; Fort Gordon, GA; Fort Hood, TX; Fort Irwin, CA; Fort Jackson, SC; Fort Lee, VA; Fort Riley, KS; Fort Sill, OK; Fort Stewart, GA; Joint Base Lewis McChord-Yakima Training Center, WA; Joint Base San Antonio-Fort Sam Houston and Joint Base San Antonio-Camp Bullis, TX (Army Support Activity); Camp Dawson-Kingwood, WV; Camp McCain, MS; Orchard Combat Training Center, ID; Camp Perry, OH; James A. Garfield Joint Military Training Center, OH; Camp Ravenna, OK; Camp Ripley, MN; Camp Shelby, MS; Fort Indiantown Gap, PA; Fort Pickett, VA; Gowen Field, ID; McCrady Training Site, SC; MTA Limestone Hills, MT, and the Volunteer Training Site, TN.

The PEA analyzes the potential environmental and socioeconomic impacts associated with the Proposed Action, including direct, indirect, and cumulative effects. The analysis includes minimization measures, standard operating procedures, and best management practices routinely employed by the installations to reduce potential adverse effects of the proposed action.

The Army identified one reasonable alternative that would meet the purpose of and need for the Proposed Action: Field AMPV units to installations in order to replace, on a one-to-one ratio, the equivalent mission roles currently fulfilled by M113 variants. The AMPV would serve five mission roles currently provided by the M113, and would also include associated operational activities, soldier training, and AMPV maintenance activities. Though minor adjustments in the variant mix may occur, ABCT structures and manpower would remain largely unchanged as a result of AMPV fielding. Approximately 130 vehicles of the M113 family are part of each ABCT, and each would be replaced by an AMPV.

The Army also carried forward a No Action Alternative for detailed analysis in the PEA. While the No Action Alternative would not satisfy the purpose of or need for the proposed action, this alternative was retained to provide a comparative baseline against which to analyze the effects of the action alternative.

Resources analyzed in the PEA include air quality, biological resources, cultural resources, geological and soil resources, land use and compatibility, traffic and transportation, and water resources. Based on the analysis presented in the PEA, effects of the proposed action on these resources are expected to be negligible, minor, less than significant, or significant but mitigatable.

When considering implementing an individual proposed action, installations would complete the environmental checklist for AMPV fielding included in the PEA's appendices to determine whether tiering from the PEA and FONSI would be appropriate and what type of additional site-specific NEPA documentation, if any, would be required. If an installation determines that it requires additional NEPA analysis tiered from the PEA, the installation would be required to complete the appropriate NEPA documentation before making any irreversible and irretrievable commitments of resources related to that action. Tiering from the PEA, when appropriate, would avoid or reduce the costs of repetitive, similar analyses and enable installations to focus resources on only those site-specific environmental issues that require more in-depth analyses.

Government agencies, Native American Tribes, and the public are invited to submit written comments on the PEA and/or draft FONSI. The public comment period begins with the publication of this Notice of Availability in the Federal Register and will last for 30 days. The PEA and draft FONSI are available to the public on the U.S. Army Environmental Command's NEPA Documents web page at https://aec.army.mil/index.php?cID=352. If you cannot access the PEA online, please submit a request to the U.S. Army Environmental Command at usarmy.jbsa.aec.mbx@army.mil or via mail at U.S. Army Environmental Command, ATTN: Public Affairs, 2455 Reynolds Rd., Mail Stop 112, JBSA-Fort Sam Houston, TX 78234-7588.

Following the public comment period, the Army will consider all public comments and prepare a Final FONSI or Notice of Intent to prepare an Environmental Impact Statement prior to making a decision regarding the Proposed Action. Comments must be received or postmarked April 3, 2023 to be considered during the decision-making process.

James W. Satterwhite Jr.,
Army Federal Register Liaison Officer.

[FR Doc. 2023-04401 Filed 3-2-23; 8:45 am]

BILLING CODE 3711-02-P